DEPARTMENT OF ENERGY

Federal Energy Regulatory Commission

[Project No. 12492-001]

Ha-Best, Inc.; Notice of License Application Amendment

August 8, 2008.

Take notice that the following hydroelectric application amendment has been filed with the Commission and is available for public inspection.

a. Type of Application: License Application Amendment for an Original Minor License.

b. Project No.: P-12492-001.

c. Date Filed: July 31, 2008.

d. Applicant: Ha-Best Inc.

e. Name of Project: Miner Shoal Waterpower Project.

f. Location: The proposed project is located on the Soque River, near the Town of Demorest, Habersham County, Georgia. The proposed project does not occupy federal lands.

g. Filed Pursuant to: Federal Power Act 16 U.S.C. 791 (a)-825(r).

h. Applicant Contact: Don Ferguson, 34 West Jarrard Street, Cleveland, GA 30528; Telephone (706) 865-3999.

i. FERC Contact: Janet Hutzel, Telephone (202) 502-8675, or by e-mail at janet.hutzel@ferc.gov.

j. The application is not ready for environmental analysis at this time.

k. Project Description: The proposed Minor Shoal Project would consist of the following: (1) An existing 5-foot-high, 80-foot-long diversion dam; (2) an existing 92-foot-long, 7-foot-diameter steel penstock; (3) a new 160-foot-long, 7-foot-diameter steel penstock from the diversion dam tying in to the existing penstock at elevation 1228 feet mean sea level; (4) two existing powerhouses containing a total of three turbines with a total installed capacity of 1,320 kilowatts; and (5) appurtenant facilities. The project would have an annual generation of 2,175,000 kilowatt-hours.

l. Locations of the Application Amendment: A copy of the application amendment is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item (h) above.

You may also register online at http://www.ferc.gov/esubscribenow.htm to be notified via e-mail of new filings and issuances related to this or other pending projects. For assistance, contact FERC Online Support.

m. Procedural Schedule: At this time we do not anticipate the need for preparing a draft environmental assessment (EA). Recipients will have 30 days to provide the Commission with any written comments on the EA. All comments filed with the Commission will be considered in the Order taking final action on the license application. However, should substantive comments requiring re-analysis be received on the EA document, we would consider preparing a subsequent EA document. The application will be processed according to the following Hydro Licensing Schedule. Revisions to the schedule will be made as appropriate.

Milestone | Target date
Issue Acceptance or Deficiency Letter | October 2008.
Request Additional Information | October 2008.
Issue Scoping Document 1 for Comments | March 2009.
Issue Scoping Document 2 (if necessary) | June 2009.
Notice that application is ready for environmental analysis | June 2009.
Notice of the Availability of the EA | December 2009.

n. Final amendments to the application must be filed with the Commission no later than 30 days from the issuance date of the notice ready for environmental analysis.

Kimberly D. Bose,
Secretary.

[FR Doc. E8-18994 Filed 8-15-08; 8:45 am]

BILLING CODE 6717-01-P